DEPARTMENT OF THE INTERIOR

Bureau of Land Management

[LLCAD01000 L12100000.XK0000 19XL1109AF (MO#4500133323)]

Meeting of the California Desert District Advisory Council

AGENCY: Bureau of Land Management, Interior.

ACTION: Notice of public meeting.

SUMMARY: In accordance with the Federal Land Policy and Management Act of 1976, and the Federal Advisory Committee Act of 1972, the U.S. Department of the Interior, Bureau of Land Management (BLM) California Desert District Advisory Council (Council) will meet as indicated below.

DATES: The Council's next meeting will be held on June 28-29, 2019. The Council will participate in a field tour of BLM-administered public lands on Friday, June 28, 2019, from 8:30 a.m. to 5:30 p.m., and then will meet in formal session on Saturday, June 29, 2019, from 9:00 a.m. to 4:00 p.m.

ADDRESSES: The Saturday meeting will take place at the Ramada Inn, 1511 East Main Street, Barstow, California 92311. The location and agenda for the Friday field trip will be posted on the BLM web page at: https://www.blm.gov/get-Involved/rac/california/california-desert-district, when finalized.

Written comments may be filed in advance of the public meeting, c/o Bureau of Land Management, Public Affairs, 22835 Calle San Juan de Los Lagos, Moreno Valley, CA 92553. Written comments will also be accepted at the time of the Saturday public meeting and will be incorporated into the meeting minutes and made available on the Council's website.

FOR FURTHER INFORMATION CONTACT: Sarah K. Webster, BLM California State Office, telephone: 916-978-4622, email: swebster@blm.gov. Persons who use a telecommunications device for the deaf (TDD) may call the Federal Relay Service (FRS) at 1-800-877-8339 to contact Ms. Webster during normal business hours. The FRS is available 24 hours a day, 7 days a week, to leave a message or question. You will receive a reply during normal hours.

SUPPLEMENTARY INFORMATION: The 15-member Council provides recommendations to the Secretary of the Interior concerning the planning and management of the public land resources located within the BLM's California Desert District and offers advice on the implementation of the comprehensive, long-range plan for management, use, development, and protection of the public lands within the California Desert Conservation Area.

All Council meetings and field trips are open to the public, but the public must provide their own transportation, meals, and beverages.

The field trip will include visits to the Cronese Lake, the Rasor Off-Highway Vehicle Recreation Area, and the Avawatz Mountains. The Saturday public meeting will include a discussion of implementation of the John D. Dingell, Jr. Conservation, Management, and Recreation Act (Dingell Act), the West Mojave Route Network Project, and off-highway vehicle recreation as they relate to the previous day's field trip.

The Saturday meeting will also include discussions on implementation of the Dingell Act in the California Desert District, updates from Council members and the BLM California Desert District Manager, and time for public comment at the beginning and end of the meeting as well as during various presentations.

While the Saturday meeting is tentatively scheduled from 9:00 a.m. to 4:00 p.m., the meeting could conclude prior to 4:00 p.m. should the Council conclude its presentations and discussions. Therefore, members of the public interested in a particular agenda item or discussion should schedule their arrival accordingly. The final agenda will be posted to the Council's website at https://www.blm.gov/get-involved/rac/california/california-desert-district.

Before including your address, phone number, email address, or other personal identifying information in your comment, you should be aware that your entire comment—including your personal identifying information—may be made publicly available at any time. While you can ask us to withhold your personal identifying information from public review, we cannot guarantee that we will be able to do so.

(Authority: 43 CFR 1784.4-2)

Benjamin E. Gruber,
Acting California Desert District Manager.

[FR Doc. 2019-09930 Filed 5-13-19; 8:45 am]

BILLING CODE 4310-40-P